DEPARTMENT OF COMMERCE

National Oceanic and Atmospheric Administration

RIN 0648-XC100

Marine Mammals; File No. 17115

AGENCY: National Marine Fisheries Service (NMFS), National Oceanic and Atmospheric Administration (NOAA), Commerce.

ACTION: Notice; issuance of permit amendment.

SUMMARY: Notice is hereby given that a major amendment to Permit No. 17115-00 has been issued to James Lloyd-Smith, Ph.D., Department of Ecology and Evolutionary Biology, University of California, Los Angeles, 610 Charles E. Young Dr. South, Box 723905, Los Angeles, CA 90095-7239.

ADDRESSES: The permit amendment and related documents are available for review upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

FOR FURTHER INFORMATION CONTACT: Amy Sloan or Tammy Adams, (301) 427-8401.

SUPPLEMENTARY INFORMATION: On July 15, 2013, notice was published in the Federal Register (78 FR 42041) that a request for an amendment Permit No. 17115-00 to conduct research on California sea lions (Zalophus californianus) had been submitted by the above-named applicant. The requested permit amendment has been issued under the authority of the Marine Mammal Protection Act of 1972, as amended (16 U.S.C. 1361 et seq.), and the regulations governing the taking and importing of marine mammals (50 CFR part 216).

Permit No. 17115-01 authorizes the permit holder to study the prevalence of leptospirosis in wild California sea lions in California. The amendment expands the scope of the study to include (1) two additional study sites, Monterey Bay and San Nicolas Island, in addition to Año Nuevo Island; (2) disentangling sea lions; (3) disturbance from collecting environmental samples to study transmission of leptospirosis; and (4) collecting fur and blood to study contaminants. Sea lions may be captured (including restraint and anesthesia); marked and measured; sampled (blood, urine, vibrissae, fur); and released. A limited number of non-target sea lions may be captured and released without sampling. California sea lions, northern elephant seals (Mirounga angustirostris), and harbor seals (Phoca vitulina) may be taken by incidental disturbance. Four unintentional mortalities of California sea lions are authorized annually, not to exceed eight over the duration of the permit. The permit expires September 30, 2017.

In compliance with the National Environmental Policy Act of 1969 (42 U.S.C. 4321 et seq.), a final determination has been made that the activity proposed is categorically excluded from the requirement to prepare an environmental assessment or environmental impact statement.

Dated: September 6, 2013.
P. Michael Payne,
Chief, Permits and Conservation Division, Office of Protected Resources, National Marine Fisheries Service.

[FR Doc. 2013-22182 Filed 9-11-13; 8:45 am]

BILLING CODE 3510-22-P